DEPARTMENT OF TRANSPORTATION

Office of the Secretary

Notice of Applications for Certificates of Public Convenience and Necessity and Foreign Air Carrier Permits Filed Under Subpart B (Formerly Subpart Q) During the Week Ending May 4, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28129.

Date Filed: May 3, 2007.

Due Date for Answers, Conforming Applications, or Motion To Modify Scope: May 24, 2007.

Description: Application of Oy Air Finland Ltd., requesting an exemption and foreign air carrier permit to engage in charter foreign air transportation of persons, property, and mail between a point or points in Finland, on the one hand and a point or points in the United States, on the other hand, via intermediate points.

Docket Number: OST-2007-28149.

Date Filed: May 4, 2007.

Due Date for Answers, Conforming Applications, or Motion To Modify Scope: May 25, 2007.

Description: Application of British Airways Plc, requesting issuance of an amended foreign air carrier permit to the full extent authorized by the Air Transport Agreement between the United States and the European Community and the Member States of the European Community to enable it to engage in: (i) Foreign scheduled and charter air transportation of persons, property and mail from any point or points behind and Member State of the European Union via any point or points in any Member State and via intermediate points to any point or points in the United States and beyond; (ii) foreign scheduled and charter air transportation of persons, property and mail between any point or points in the United States and beyond; (iii) foreign scheduled and charter cargo air transportation between any point or points in the United States and any other point or points; (iv) other charters pursuant to the prior approval requirements set forth in Part 212 of the Department's Economic Regulations; and (v) transportation authorized by any additional route rights made available to European Community carriers in the future. British Airways further requests a corresponding exemption to the extent necessary to enable it to provide the service described above pending issuance of an amended foreign air carrier permit and such additional or other relief as the Department may deem necessary or appropriate.

Renee V. Wright,
Program Manager, Docket Operations, Federal Register Liaison.

[FR Doc. E7-9408 Filed 5-15-07; 8:45 am]

BILLING CODE 4910-9X-P